FEDERAL COMMUNICATIONS COMMISSION

[OMB 3060-0767; FRS 16414]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before March 23, 2020.

ADDRESSES: Direct all PRA comments to Cathy Williams, FCC, via email PRA@fcc.gov and to Cathy.Williams@fcc.gov. Include in the comments the Title as shown in the SUPPLEMENTARY INFORMATION section below.

FOR FURTHER INFORMATION CONTACT: For additional information about the information collection, contact Cathy Williams at (202) 418-2918.

SUPPLEMENTARY INFORMATION:

OMB Control Number: 3060-0767.

Title: Sections 1.2110, 1.2111 and 1.2112, Auction and Licensing Disclosures—Ownership and Designated Entity Status.

Form Number: N/A.

Type of Review: Extension of a currently approved collection.

Respondents: Business or other for profit, Not-for-profit institutions, and State, local or tribal government.

Number of Respondents: 310 respondents; 310 responses.

Estimated Time per Response: 0.50 hours to 2 hours.

Frequency of Response: On occasion reporting requirement, Third party disclosure requirement, and Recordkeeping requirement.

Obligation to Respond: Required to obtain or retain benefits. Statutory authorization for this collection of information is contained in 47 U.S.C. 154(i) and 309(j). sections 154(i) and 309(j) of the Communications Act, as amended, 47 U.S.C. 4(i) and 309(j)(5).

Total Annual Burden: 470 hours.

Total Annual Costs: $31,500.

Nature and Extent of Confidentiality: The Commission is not requesting that respondents submit confidential information to the Commission as part of this information collection. However, to the extent a respondent wishes to request confidential treatment of information submitted in response to this collection, it may do so in accordance with section 0.459 of the Commission's rules, 47 CFR 0.459.

Privacy Act Impact Assessment: No impact(s).

Needs and Uses: A request for extension of this information collection (no change in requirements) will be submitted to the Office of Management and Budget (OMB) after this 60-day comment period in order to obtain the full three-year clearance from OMB. Beginning first on May 5, 1997, OMB approved under OMB Control No. 3060-0767 the Commission's collections of information pursuant to sections 1.2110, 1.2111, and 1.2112 of the Commission's rules, 47 CFR 1.2110, 1.2111, and 1.2112, and their predecessors, regarding ownership and designated entity status of parties involved with Commission licenses. The Commission collects this information in several contexts, including when determining the eligibility of applicants to participate in Commission auctions (including eligibility to claim designated entity benefits), the eligibility of parties to hold a Commission license/authorization (including eligibility for designated entity benefits), the eligibility of parties to whom licenses/authorizations are being assigned or transferred, and the repayment by license/authorization holders of the amount of bidding credits received in Commission auctions to avoid unjust enrichment. Applicants and licensees/authorization holders claiming eligibility for designated entity status are subject to audits and a record-keeping requirement regarding FCC-licensed service concerning such claims of eligibility, to confirm that their representations are, and remain, accurate. The collection of this information will enable the Commission to determine whether applicants are qualified to bid on and hold Commission licenses/authorizations and, if applicable, to receive designated entity benefits, and is designed to ensure the fairness of the auction, licensing, and license/authorization assignment and transfer processes. The information collected will be reviewed and, if warranted, referred to the Commission's Enforcement Bureau for possible investigation and administrative action. The Commission may also refer allegations of anticompetitive auction conduct to the Department of Justice for investigation. OMB has approved separately the routine collections of information pursuant to these Commission rules in applications to participate in Commission auctions) under OMB Control No. 3060-0600 (FCC Form 175), in Commission licensing applications under OMB Control No. 3060-0798 (FCC Form 601), and in assignment/transfer of control applications under OMB Control No. 3060-0800 (FCC Form 603). On occasion, the Commission may collect information from auction applicants, winning bidders and others applying for licenses/authorizations, and license/authorization holders pursuant to these rules under this information collection to clarify information provided in these application forms or in circumstances to which the standard forms may not directly apply.

Federal Communications Commission.
Marlene Dortch,
Secretary, Office of the Secretary.

[FR Doc. 2020-00846 Filed 1-17-20; 8:45 am]

BILLING CODE 6712-01-P